DEPARTMENT OF HEALTH AND HUMAN SERVICES

Substance Abuse and Mental Health Services Administration

Funding Opportunity Title: Notice of Funding Availability (NOFA) for Community Treatment and Services Centers of the National Child Traumatic Stress Initiative (Short Title: NCTSI—Community Treatment and Services Centers)

Announcement Type: Initial.

Funding Opportunity Number: SM 04-010.

Catalog of Federal Domestic Assistance (CFDA) Number: 93.243.

Due Date for Application: June 10, 2004.

Note: Letters from State Single Point of Contact (SPOC) in response to E.O. 12372 are due August 9, 2004.

SUMMARY: The Substance Abuse and Mental Health Services Administration (SAMHSA), Center for Mental Health Services (CMHS), announces the availability of FY 2004 funds for Community Treatment and Services Centers of the National Child Traumatic Stress Initiative (NCTSI). A synopsis of this funding opportunity, as well as many other Federal Government funding opportunities, is also available at the Internet site: http://www.grants.gov.

For complete instructions, potential applicants must obtain a copy of SAMHSA's standard Best Practices Planning and Implementation Grant Program Announcement [BPPI-04 PA (MOD)], and the PHS 5161-1 (Rev. 7/00) application form before preparing and submitting an application. The BPPI-04 PA (MOD) describes the general program design and provides instructions for applying for all SAMHSA Best Practices Planning and Implementation Grants, including the Community Treatment and Services Centers of the National Child Traumatic Stress Initiative (NCTSI). Additional instructions and specific requirements for this funding opportunity are described below.

I. Funding Opportunity Description

Authority: Section 582 of the Public Health Service Act, as amended and subject to the availability of funds.

Community Treatment and Services Centers of the National Child Traumatic Stress Initiative (NCTSI—Community Treatment and Services Centers) is one of SAMHSA's Best Practices and Planning Implementation Grants.

The purpose of NCTSI—Community Treatment and Services Centers grants is to improve treatment and services for all children and adolescents in the United States who have experienced traumatic events and to increase access to effective trauma treatment and services. A network of centers, the National Child Traumatic Stress Network (NCTSN), has been established to achieve the goals of the NCTSI. NCTSN consists of three types of centers: a national coordinating center, the National Center for Child Traumatic Stress (NCCTS), Intervention Development and Evaluation Centers (IDECs), and Community Treatment and Services Centers (CTSCs).

NCCTS provides leadership and coordination for the activities of the Network of IDECs and CTSCs. IDECs have primary responsibility for developing effective interventions for specific types of trauma (e.g., child abuse or refugee trauma), different service settings (e.g., schools or residential treatment centers), or different populations of traumatized children and/or adolescents (e.g., preschool children or children living in rural areas). CTSCs are programs that primarily provide treatment or services in community settings or in specialty youth-serving service systems. Centers in NCTSN work collaboratively to identify, develop, and implement effective treatments and services in community and child-serving service systems settings; collect clinical data on child trauma cases and services; develop resources on trauma for professionals, consumers, and the public; and develop trauma-focused public education and professional training. NCTSN grantees not only assist the children directly affected by traumatic events, but also provide support and assistance to their families, caretakers, and advocacy/consumer groups.

Background: In recognition of the serious impact that trauma can have on children's mental health, Congress authorized the development of programs focusing on psychological trauma response and the development of knowledge in evidence-based practices for treating trauma-related psychiatric disorders of children and youth. The target populations for this initiative are children who are abused, witness family or community violence, lose a family member, experience serious medical problems, experience war zone or displacement trauma, or endure natural and human caused disasters or terrorism. Traumatic events often involve a life-threat, severe physical injury, threat to psychological control or physical or psychological integrity, loss of a primary caretaker, or loss of one's community or social environment. Effects of trauma can include emotional problems such as depression, anxiety, and chronic or impulsive outbursts of anger; suicide attempts; behavior problems such as antisocial behavior and substance abuse; cognitive and motivational distortions including hopelessness, chronic shame, or guilt; learning and academic problems resulting from learning, memory, and attention difficulties; and interpersonal problems. Intervention in the aftermath of trauma is perhaps the most significant clinical issue in child and adolescent mental health. Of particular concern for receipt of intervention services are children in child service systems with high rates of trauma exposures such as the child welfare and child protective services systems, the juvenile justice system, hospitals and emergency clinics, child rehabilitation services, and service systems for refugee children.

II. Award Information

1. Estimated Funding Available/Number of Awards: It is expected that up to $4.8 million will be available to fund up to 12 awards in FY 2004. There will be no Phase I awards for NCTSI—Community Treatment and Services Centers. These Phase II awards will be up to $400,000 in total costs (direct and indirect) for one year, rather than the award duration stated in the BPPI-04 PA (MOD). Proposed budgets cannot exceed the allowable amount. The actual amount available for the award may vary, depending on unanticipated program requirements and the number and quality of the applications received.

2. Funding Instrument: Cooperative Agreement

Role of Federal Staff:

• Consult with NCCTS staff, IDEC project directors, and CTSC project directors on all phases of the project to ensure accomplishment of the goals of the Initiative;

• Review critical project activities for conformity to the goals of NCTSI;

• Assume overall responsibility for monitoring the conduct and progress of NCTSI programs;

• Make recommendations regarding continued funding;

• Provide feedback on project design and components;

• Participate in selected policy and steering groups or related work groups;

• Review quarterly reports and conduct site visits, if warranted;

• Provide support services or recommend outside consultants, if needed;

• Author or co-author publications on program findings;

• Collect and disseminate site- and NCTSN-developed intervention and training products; and

• Provide technical assistance on ways to help disseminate and implement products of collaborative activities.

Role of Awardee:

• Comply with the terms of the cooperative agreement award as specified in the requirements of the BPPI-04 PA (MOD) and the Notice of Grant Award (NOGA);

• Participate in collaborative activities with other NCTSN centers and other collaborative Network activities;

• Participate in grantee meetings;

• Accept guidance and respond to requests for data from CMHS;

• Participate in policy steering groups and other work groups to help accomplish project goals;

• As appropriate, author or co-author publications on project results for use by the field;

• Provide at least one electronic or other-media-type copy of all site- or NCTSN-developed intervention or training products developed through the use of grant funds to the Government Project Officer;

• Participate in post-award, cross-site process and outcome evaluation activities; and

• Implement specified activities, data collection, quality control, and complete required SAMHSA reports.

III. Eligibility Information

1. Eligible Applicants are limited to CTSCs (Category III grantees) funded in FY 2001 under the NCTSI. These eligibility criteria supersede the criteria specified in Section III-1 of the BPPI-04 PA (MOD). SAMHSA/CMHS is currently funding four cohorts of CTSC grantees with different start and end dates, as well as different project periods. By funding the original cohort of grantees for an additional year, SAMHSA/CMHS will: (1) Enable the original cohort of grantees (whose funding is coming to an end) to continue the positive work they have started; and (2) bring three of the four cohorts of grantees to a common developmental endpoint. This will set the stage for grantees in those three cohorts, along with other providers in the field that have not yet received funding, to compete in FY 2005 for National Child Traumatic Stress Initiative grants.

2. Cost Sharing or Matching is not required.

3. Other: Applicants must also meet certain application formatting and submission requirements or the application will be screened out and will not be reviewed. These requirements are described in section IV-2 below as well as in the BPPI-04 PA (MOD).

IV. Application and Submission Information

1. Address to Request Application Package: Complete application kits may be obtained from: the National Mental Health Information Center at 1-800-789-2647. When requesting an application kit for this program, applicants must specify the funding opportunity title (NCTSI—Community Treatment and Services Centers) and the funding opportunity number (SM 04-010). All information necessary to apply, including where to submit applications and application deadline instructions, is included in the application kit. The PHS 5161-1 application form is also available electronically via SAMHSA's World Wide Web Home Page: http://www.samhsa.gov/ (click on “Grant Opportunities”) and the BPPI-04 PA (MOD) is available electronically at http://www.samhsa.gov/grants/2004/standard/BPPI/index.asp.

When submitting an application, be sure to type “SM 04-010, NCTSI—Community Treatment and Services Centers” in Item Number 10 on the face page of the application form. Also, SAMHSA applicants are required to provide a DUNS Number on the face page of the application. To obtain a DUNS Number, access the Dun and Bradstreet Web site at http://www.dunandbradstreet.com or call 1-866-705-5711.

2. Content and Form of Application Submission: Information including required documents, required application components, and application formatting requirements is available in the BPPI-04 PA (MOD) in section IV-2.

Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

□ Use the PHS 5161-1 application.

□ Applications must be received by the application deadline. Applications received after this date must have a proof of mailing date from the carrier dated at least 1 week prior to the due date. Private metered postmarks are not acceptable as proof of timely mailing. Applications not received by the application deadline or not postmarked at least 1 week prior to the application deadline will not be reviewed.

□ Information provided must be sufficient for review.

□ Text must be legible.

• Type size in the Project Narrative cannot exceed an average of 15 characters per inch, as measured on the physical page. (Type size in charts, tables, graphs, and footnotes will not be considered in determining compliance.)

• Text in the Project Narrative cannot exceed 6 lines per vertical inch.

□ Paper must be white paper and 8.5 inches by 11.0 inches in size.

□ To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

□ The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

□ The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

❑ Applications should comply with the following requirements:

• Provisions relating to confidentiality, participant protection and the protection of human subjects, as indicated in the specific funding announcement.

• Budgetary limitations as indicated in sections I, II, and IV-5 of the specific funding announcement.

• Documentation of nonprofit status as required in the PHS 5161-1.

❑ Pages should be typed single-spaced with one column per page.

❑ Pages should not have printing on both sides.

❑ Please use black ink, and number pages consecutively from beginning to end so that information can be located easily during review of the application. The cover page should be page 1, the abstract page should be page 2, and the table of contents page should be page 3. Appendices should be labeled and separated from the Project Narrative and budget section, and the pages should be numbered to continue the sequence.

❑ Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by June 10, 2004. You will be notified by postal mail that your application has been received. Additional submission information is available in the BPPI-04 PA (MOD) in section IV-3.

4. Intergovernmental Review: Applicants for this funding opportunity must comply with Executive Order 12372 (E.O. 12372). E.O. 12372, as implemented through Department of Health and Human Services (DHHS) regulation at 45 CFR part 100, sets up a system for State and local review of applications for Federal financial assistance. Instructions for complying with E.O. 12372 are provided in the BPPI-04 PA (MOD) in section IV-4. A current listing of State Single Points of Contact (SPOCs) is included in the application kit and is available at http://www.whitehouse.gov/omb/grants/spoc.html.

5. Funding Restrictions: Information concerning funding restrictions is available in the BPPI-04 PA (MOD) in section IV-5.

V. Application Review Information

1. Evaluation Criteria: Eligible applicants have been determined to have met comparable requirements to those required in BPPI Phase I grants. Therefore, applicants are expected to apply for a Phase II grant and to follow procedures outlined in the BPPI-04 PA (MOD) for applicants who have not previously applied for a Phase I award. In sections where the language in the BPPI-04 PA (MOD) requires discussion of Phase I BPPI activities, applicants are expected to discuss activities conducted to date within their previous Community Treatment and Services Center grant.

Applications will be reviewed against the Evaluation Criteria and requirements for the Project Narrative specified in the BPPI-04 PA (MOD). The following information describes exceptions or limitations to the BPPI-04 PA (MOD) and provides special requirements that pertain only to the NCTSI—Community Treatment and Services Centers cooperative agreement.

1.1 Allowable Activities:

Community Treatment and Services Centers are allowed to provide and support inpatient treatment, which is an exception to the BPPI-04 PA (MOD). Additional Network participation activities allowed and expected of NCTSI—Community Treatment and Services Centers grantees include:

(1) Providing outreach to the community in the areas of identifying and providing trauma services to children and families who do not seek services;

(2) Training community providers in child trauma services;

(3) Developing or monitoring trauma services appropriate to the race/ethnicity/culture/age of the community's service population;

(4) Educating the community on child trauma issues; and

(5) Educating and training staff in specialty child service systems such as juvenile justice, emergency medical services, or child protective services.

1.2 Applicants for the NCTSI—Community Treatment and Services Centers cooperative agreement are required to discuss the following requirements in their applications, in addition to the requirements specified in the BPPI-04 PA (MOD):

a. In “Section A: Need, Justification of Best Practice, and Readiness”:

(1) Applicants do not need to produce evidence that a community of stakeholders has achieved a “decision to adopt” the best practices. Instead, applicants may describe relationships with existing community “stakeholders” and partnerships with key community “stakeholders” already achieved under current NCSTI Category III Community Treatment and Service grants.

(2) Applicants must include in their financing plan a statement and description of their plan to dedicate at least 20% of the grant funds to the following Network participatory and collaborative activities:

• Linking, networking, collaborating, and coordinating with other NCTSN Centers to improve access to and quality of treatment and services for children and adolescents exposed to traumatic events such as collaborating with other NCTSN centers in multi-site treatment/services studies, jointly developing clinical data and evaluation data collection protocols, etc.;

• Participating in NCTSN committees, workgroups, and taskforces;

• Implementing consensus decisions made by the NCTSI Steering Committee;

• Serving as a resource for the NCTSI and the National Resource Center for Child Traumatic (NRC-CTS) in aspects of community treatment/service delivery; and

• Working with the NCTSN and NRC-CTS to ensure that best practices in training, assessment, and/or intervention approaches from your center can be documented, standardized, evaluated, and disseminated to other service programs nationwide.

b. In “Section B: Proposed Approach”: Applicants are required to document their plans for continuing to participate and collaborate in the Network for pilot testing, adaptation, implementation, and evaluation of the best practice. They should indicate with which IDECs and CTSCs in the Network they will collaborate for these purposes.

c. In “Section D: Evaluation Design and Analysis”: Applicants must indicate that they will participate in cross-site evaluation efforts.

1.3 Performance Measurement: All SAMHSA grantees are required to collect and report certain data, so that SAMHSA can meet its obligations under the Government Performance and Results Act (GPRA). Grantees of the NCTSI “ Community Treatment and Services Centers program will be required to report performance in: (1) increasing the number of children and adolescents reached by improved services; and (2) improving children's outcomes. Specific indicators include: (1) Number of persons served; (2) number, type, and capacity of services available; and (3) participants (consumer/family) reporting involvement in behavioral/emotional outcomes. The applicant must document its ability to collect and report the required data in “Section D: Evaluation Design and Analysis” of its application. An instrument will be developed by CMHS staff to report on these indicators.

2. Review and Selection Process: Information about the review and selection process is available in the BPPI-04 PA (MOD) in section V-2. Award Criteria: Because eligibility is limited to NCTSI—Community Treatment and Services Centers grantees funded in FY 2001, equitable distribution of awards in terms of geographic criteria does not apply.

VI. Award Administration Information

Award administration information, including award notices, administrative and national policy requirements, and reporting requirements are available in the BPPI-04 PA (MOD) in section VI. In addition to the reporting requirements stated in the BPPI-04 PA (MOD), the applicant must provide quarterly progress reports and an annual evaluation report that documents progress in achieving project goals. SAMHSA's standard terms and conditions are available at http://www.samhsa.gov/grants/2004/useful_info.asp.

VII. Agency Contact for Additional Information

For questions about program issues contact: Christine Guthrie, MPH, Division of Prevention, Traumatic Stress, and Special Programs, SAMHSA/CMHS, 5600 Fishers Lane, Room 15-99, Rockville, MD 20857; (301) 443-0691; E-mail: cguthrie@samhsa.gov. For questions on grants management issues contact: Gwendolyn Simpson, SAMHSA/Division of Grants Management, 5600 Fishers Lane, Room 13-101, Rockville, MD 20857; (301) 443-4456; E-mail: gsimpson@samhsa.gov.

Dated: April, 2, 2004.
Daryl Kade,
Director, Office of Policy, Planning and Budget, Substance Abuse and Mental Health Services Administration.

[FR Doc. 04-7911 Filed 4-7-04; 8:45 am]

BILLING CODE 4162-20-P